DEPARTMENT OF COMMERCE

National Oceanic and Atmospheric Administration

[I.D. 120902G]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene public meetings of the Reef Fish Advisory Panel (AP) and the Standing and Special Reef Fish Scientific and Statistical Committee (SSC) from January 6 through January 9, 2003.

DATES: The Council's Reef Fish AP will convene at 9 a.m. on Monday, January 6, 2003 and conclude by 4 p.m. on Tuesday, January 7, 2003. The SSC will convene at 9 a.m. on Wednesday, January 8, 2003 and will conclude by 4 p.m. on Thursday, January 9, 2003.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The AP and the SSC will review reports of the Council's Reef Fish Stock Assessment Panel (RFSAP) and Socioeconomic Panel (SEP) on the stock assessments and status of the red grouper and yellowedge grouper stocks in the Gulf of Mexico. These stock assessments were prepared by the NMFS and were presented to the RFSAP during their September 17-19, 2002 meeting. Red grouper assessments were previously conducted in 1991, 1993, and 1999. This is the first time that a stock assessment has been conducted on yellowedge grouper.

In October 2000, NMFS declared red grouper to be overfished, based on the 1999 assessment plus additional analyses conducted at the request of the RFSAP. In September 2002, the Council submitted a red grouper rebuilding plan to NMFS (Secretarial Amendment 1 to the Reef Fish Fishery Management Plan), which is currently being reviewed by NMFS. Based on the results of the 2002 red grouper stock assessment and the recommendations of the RFSAP, SEP, AP, and SSC, the Council may choose to modify its proposals for rebuilding the red grouper stock. The AP and SSC will provide recommendations to the Council on both red grouper and yellowedge grouper regulations.

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agendas of these meetings and the stock assessments can be obtained by calling the Council office at 813-228-2815 (toll-free 888-833-1844). Additional materials, including the RFSAP report and the SEP report, can also be obtained from the Council office or downloaded from the Council Web site (http://www.gulfcouncil.org) but the SEP report may not be available until just prior to the meetings.

Special Accommodations

This meeting is physically accessible to people with disabilities. Requests for sign language interpretation or other auxiliary aids should be directed to Anne Alford at the Council (see ADDRESSES) by December 27, 2002.

Dated: December 10, 2002.
Richard W. Surdi,
Acting Director, Office of Sustainable Fisheries, National Marine Fisheries Service.

[FR Doc. 02-31692 Filed 12-16-02; 8:45 am]

BILLING CODE 3510-22-S